ENVIRONMENTAL PROTECTION AGENCY

40 CFR Part 52

[PA 210-4302; FRL-7616-6]

Approval and Promulgation of Air Quality Implementation Plans; Pennsylvania; Revisions To Update the 1-Hour Ozone Maintenance Plan for the Reading Area (Berks County)

AGENCY: Environmental Protection Agency (EPA).

ACTION: Final rule.

SUMMARY: EPA is approving State Implementation Plan (SIP) revisions submitted by the Commonwealth of Pennsylvania. These revisions amend Pennsylvania's ten-year plan to maintain the 1-hour ozone national ambient air quality standard (NAAQS) in the Reading area (Berks County). The maintenance plan is being amended to revise the attainment year inventories and motor vehicle emission budgets using MOBILE6. The contingency measures portion of the plan is also being amended. The intended effect of this action is to approve SIP revisions that will better enable the Commonwealth of Pennsylvania to continue to maintain attainment of the 1-hour NAAQS for ozone in the Reading area. This action is being taken under the Clean Air Act.

EFFECTIVE DATE: This final rule is effective on March 29, 2004.

ADDRESSES: Copies of the documents relevant to this action are available for public inspection during normal business hours at the Air Protection Division, U.S. Environmental Protection Agency, Region III, 1650 Arch Street, Philadelphia, Pennsylvania 19103; and the Pennsylvania Department of Environmental Protection, Bureau of Air Quality Control, PO Box 8468, 400 Market Street, Harrisburg, Pennsylvania 17105.

FOR FURTHER INFORMATION CONTACT: Martin Kotsch, (215) 814-3335, or by e-mail at Kotsch.Martin@epa.gov.

SUPPLEMENTARY INFORMATION:

I. Background

On November 19, 2003 (68 FR 65234), EPA published a notice of proposed rulemaking (NPR) for the Commonwealth of Pennsylvania pertaining to revisions to the ten-year plan to maintain the 1-hour ozone national NAAQS in the Reading area Berks County. In that NPR, EPA proposed approval of revisions to the attainment year inventories and the 2004 and 2007 motor vehicle emission budgets (MVEBs) using MOBILE6. The MOBILE6 model is an updated version of the MOBILE model used for calculating mobile emissions of ozone precursors. In that same NPR published on November 19, 2003, EPA also proposed approval of revisions to the contingency measures portion of the maintenance plan. EPA proposed approval of these SIP revisions under a procedure called parallel processing, whereby EPA proposes a rulemaking action concurrently with a state's procedures for amending its SIP. The State's proposed SIP revisions were submitted to EPA on October 14, 2003 by the Pennsylvania Department of the Environmental Protection (PADEP). On November 19, 2003, EPA proposed approval of Pennsylvania's October 14, 2003 submittal. No comments were submitted during the public comment period on EPA's November 19, 2004 proposal. The PADEP formally submitted the final SIP revision on December 9, 2003. That final submittal had no substantive changes from the proposed version submitted to EPA on October 14, 2003. A detailed description of both Pennsylvania's submittal and EPA's rationale for its proposed approval were provided in the November 19, 2003 NPR and, therefore, are only briefly summarized here.

II. Summary of the SIP Revisions to the Reading Area Maintenance Plan

A. Revisions to the Motor Vehicle Emission Budgets (MVEBs)

For the Reading area maintenance plan, the MVEBs are the projected on-road mobile source components of the 2004 and 2007 maintenance inventories. These budgets were developed using the latest planning assumptions, including 2002 vehicle registration data, vehicle miles traveled, speeds, fleet mix, and SIP control measures. Because PADEP's December 9, 2003 submittal satisfies the conditions outlined in EPA's MOBILE6 Policy guidance, and demonstrates that the new levels of motor vehicle emissions calculated using MOBILE6 continue to support maintenance of the 1-hour ozone NAAQS, EPA is approving these budgets. The revised mobile inventories and emissions budgets being approved for the Reading area are shown below in Tables 1 and 2 respectively.

Table 1.—MOBILE6-Based Motor Vehicle Emissions Inventories for the Reading Area
Maintenance area | 1992 Attainment year: VOC (tpd) | 1992 Attainment year: NOX (tpd)
Reading | 27.25 | 35.57
(Berks County)

Table 2.—MOBILE6-Based MVEBs in the Maintenance Plan for the Reading Area
Maintenance Area | 2004: VOC (tpd) | 2004: NOX (tpd) | 2007: VOC (tpd) | 2007: NOX (tpd)
Reading Area (Berks County) | 17.02 | 28.99 | 13.81 | 23.06

B. Revisions to the Contingency Measures

In the original maintenance plan for the Reading area, the Commonwealth's motor vehicle inspection and maintenance (I/M) program was identified as a contingency measure. The December 9, 2003 SIP revision moves the I&M program from the contingency measures portion of the plan and makes it part of the maintenance strategy. Improved rule effectiveness will remain as a contingency measure in the maintenance plan.

III. Final Action

EPA is approving Pennsylvania's December 9, 2003 SIP revisions. These revisions amend the Reading area's maintenance plan for the 1-hour NAAQS to update the attainment year motor vehicle emissions inventory and the 2004 and 2007 MVEBs using MOBILE6. The revisions also amend the contingency measures portion of the maintenance plan.

In accordance with the parallel processing procedures, EPA has evaluated Pennsylvania's final SIP revisions submitted on December 9, 2003 and finds that no substantial changes were made from the proposed SIP revisions submitted on October 14, 2003. The revised plan for the Reading area continues to demonstrate maintenance of the 1-hour NAAQS for ozone.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by April 26, 2004. Filing a petition for reconsideration by the Administrator of this final rule does not affect the finality of this rule for the purposes of judicial review nor does it extend the time within which a petition for judicial review may be filed, and shall not postpone the effectiveness of such rule or action. This action to approve SIP revisions to the 1-hour ozone maintenance plan for the Reading area which amend its contingency measures and revise the attainment year motor vehicle emissions inventory and 2004 and 2007 MVEBs using MOBILE6 may not be challenged later in proceedings to enforce their requirements. (See section 307(b)(2)).

List of Subjects in 40 CFR Part 52

Environmental protection, Air pollution control, Incorporation by reference, Nitrogen dioxide, Ozone, Reporting and recordkeeping requirements, Volatile organic compounds.

Dated: January 22, 2004.
Judith Katz,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(222) to read as follows:

§ 52.2020 Identification of plan.

* * * * *

(c) * * *

(222) Revisions to Pennsylvania's 1-hour ozone maintenance plan for the Reading area to amend the contingency measures and to revise the attainment year mobile emissions inventories and the 2004 and 2007 motor vehicle emission budgets to reflect the use of MOBILE6. These revisions were submitted by the Commonwealth of Pennsylvania's Department of Environmental Protection to EPA on December 9, 2003.

(i) Incorporation by reference.

(A) Letter of December 9, 2003 from the Secretary of the Pennsylvania Department of Environmental Protection transmitting revisions to Pennsylvania's 1-hour ozone maintenance plan for the Reading area.

(B) Document entitled “Revision to the State Implementation Plan for the Reading Area (Berks County).” This document, dated November 2003, establishes the following:

(1) Revisions to the Reading area's 1-hour ozone maintenance plan, establishing revised motor vehicle emissions budgets of 17.02 tons/day of volatile organic compounds (VOC) and 28.99 tons/day of oxides of nitrogen (NOX) for 2004; and motor vehicle emissions budgets of 13.81 tons/day of VOC and 23.06 tons/day of NOX for 2007.

(2) Revision to the Reading area's 1-hour ozone maintenance plan which moves the Inspection and Maintenance program from the contingency measures portion of the plan and to make it part of the maintenance strategy.

(ii) Additional Material.—Remainder of the State submittal pertaining to the revisions listed in paragraph (c)(222)(i) of this section.

[FR Doc. 04-1969 Filed 2-25-04; 8:45 am]

BILLING CODE 6560-50-P